DEPARTMENT OF THE INTERIOR

National Park Service

Notice of Inventory Completion: Department of Anthropology Museum at the University of California, Davis, Davis, CA

AGENCY: National Park Service, Interior.

ACTION: Notice.

Notice is here given in accordance with the Native American Graves Protection and Repatriation Act (NAGPRA), 25 U.S.C. 3003, of the completion of an inventory of human remains in the possession of the Department of Anthropology Museum at the University of California, Davis, Davis, CA. The human remains were removed from Sonoma County, CA.

This notice is published as part of the National Park Service's administrative responsibilities under NAGPRA, 25 U.S.C. 3003 (d)(3). The determinations in this notice are the sole responsibility of the museum, institution, or Federal agency that has control of the Native American human remains. The National Park Service is not responsible for the determinations in this notice.

A detailed assessment of the human remains was made by the Department of Anthropology Museum at the University of California, Davis professional staff in consultation with representatives of the Big Valley Band of Pomo Indians of the Big Valley Rancheria, California; Cahto Indian Tribe of the Laytonville Rancheria, California; Cloverdale Rancheria of Pomo Indians of California; Coyote Valley Band of Pomo Indians of California; Dry Creek Rancheria of Pomo Indians of California; Elem Indian Colony of Pomo Indians of the Sulphur Bank Rancheria, California; Federated Indians of Graton Rancheria, California; Guidiville Rancheria of California; Habematolel Pomo of Upper Lake, California; Hopland Band of Pomo Indians of the Hopland Rancheria, California; Kashia Band of Pomo Indians of the Stewarts Point Rancheria, California; Klamath Tribes, Oregon; Lower Lake Rancheria, California; Lytton Rancheria of California; Manchester Band of Pomo Indians of the Manchester-Point Arena Rancheria, California; Middletown Rancheria of Pomo Indians of California; Pinoleville Pomo Nation, California; Potter Valley Tribe, California; Redding Rancheria, California; Redwood Valley Rancheria of Pomo Indians of California; Robinson Rancheria of Pomo Indians of California; Round Valley Indian Tribes of the Round Valley Reservation, California; Scotts Valley Band of Pomo Indians of California; and Sherwood Valley Rancheria of Pomo Indians of California.

In 1987, human remains representing a minimum of two individuals were removed from CA-SON-861 in Sonoma County, CA, under the direction of Dr. D.L. True, Professor of Anthropology at the University of California, Davis with permission of the private land owner. No known individuals were identified. No associated funerary objects are present.

Based upon the site characteristics, the human remains described above from Sonoma County are determined to be of Native American ancestry. Although no associated funerary objects accompanied the human remains, the predominance of clam shell disk beads and clam shell disk bead manufacturing tools and debris in the assemblage indicates that CA-SON-861 was occupied primarily during Phase II of the Late Period, or approximately A.D. 1500 to Historic times. Archeological and linguistic evidence indicates that Pomo people have occupied the area since at least Phase I of the Late Period or A.D. 1000. Based on geographical location and age of the archeological deposit, the human remains are most likely culturally affiliated with descendants of the Pomo. The modern-day representatives of the Pomo are the Big Valley Band of Pomo Indians of the Big Valley Rancheria, California; Cahto Indian Tribe of the Laytonville Rancheria, California; Cloverdale Rancheria of Pomo Indians of California; Coyote Valley Band of Pomo Indians of California; Dry Creek Rancheria of Pomo Indians of California; Elem Indian Colony of Pomo Indians of the Sulphur Bank Rancheria, California; Federated Indians of Graton Rancheria, California; Guidiville Rancheria of California; Habematolel Pomo of Upper Lake, California; Hopland Band of Pomo Indians of the Hopland Rancheria, California; Kashia Band of Pomo Indians of the Stewarts Point Rancheria, California; Lower Lake Rancheria, California; Lytton Rancheria of California; Manchester Band of Pomo Indians of the Manchester-Point Arena Rancheria, California; Middletown Rancheria of Pomo Indians of California; Pinoleville Pomo Nation, California; Potter Valley Tribe, California; Redding Rancheria, California; Redwood Valley Rancheria of Pomo Indians of California; Robinson Rancheria of Pomo Indians of California; Round Valley Indian Tribes of the Round Valley Reservation, California; Scotts Valley Band of Pomo Indians of California; and Sherwood Valley Rancheria of Pomo Indians of California.

Officials of the Department of Anthropology Museum at the University of California, Davis have determined that, pursuant to 25 U.S.C. 3001 (9-10), the human remains described above represent the physical remains of at least two individuals of Native American ancestry. Officials of the Department of Anthropology Museum at the University of California, Davis also have determined that, pursuant to 25 U.S.C. 3001 (2), there is a relationship of shared group identity that can be reasonably traced between the Native American human remains and the Big Valley Rancheria, California; Cahto Indian Tribe of the Laytonville Rancheria, California; Cloverdale Rancheria of Pomo Indians of California; Coyote Valley Band of Pomo Indians of California; Dry Creek Rancheria of Pomo Indians of California; Elem Indian Colony of Pomo Indians of the Sulphur Bank Rancheria, California; Federated Indians of Graton Rancheria, California; Guidiville Rancheria of California; Habematolel Pomo of Upper Lake, California; Hopland Band of Pomo Indians of the Hopland Rancheria, California; Kashia Band of Pomo Indians of the Stewarts Point Rancheria, California; Lower Lake Rancheria, California; Lytton Rancheria of California; Manchester Band of Pomo Indians of the Manchester-Point Arena Rancheria, California; Middletown Rancheria of Pomo Indians of California; Pinoleville Pomo Nation, California; Potter Valley Tribe, California; Redding Rancheria, California; Redwood Valley Rancheria of Pomo Indians of California; Robinson Rancheria of Pomo Indians of California; Round Valley Indian Tribes of the Round Valley Reservation, California; Scotts Valley Band of Pomo Indians of California; and Sherwood Valley Rancheria of Pomo Indians of California.

Representatives of any other Indian tribe that believes itself to be culturally affiliated with the human remains should contact Elizabeth Guerra, NAGPRA Coordinator, Department of Anthropology Museum, 330 Young Hall, One Shields Ave., University of California, Davis, CA 95616, telephone (530) 754-6280, before September 21, 2009. Repatriation of the human remains to the Big Valley Rancheria, California; Cahto Indian Tribe of the Laytonville Rancheria, California; Cloverdale Rancheria of Pomo Indians of California; Coyote Valley Band of Pomo Indians of California; Dry Creek Rancheria of Pomo Indians of California; Elem Indian Colony of Pomo Indians of the Sulphur Bank Rancheria, California; Federated Indians of Graton Rancheria, California; Guidiville Rancheria of California; Habematolel Pomo of Upper Lake, California; Hopland Band of Pomo Indians of the Hopland Rancheria, California; Kashia Band of Pomo Indians of the Stewarts Point Rancheria, California; Lower Lake Rancheria, California; Lytton Rancheria of California; Manchester Band of Pomo Indians of the Manchester-Point Arena Rancheria, California; Middletown Rancheria of Pomo Indians of California; Pinoleville Pomo Nation, California; Potter Valley Tribe, California; Redding Rancheria, California; Redwood Valley Rancheria of Pomo Indians of California; Robinson Rancheria of Pomo Indians of California; Round Valley Indian Tribes of the Round Valley Reservation, California; Scotts Valley Band of Pomo Indians of California; and Sherwood Valley Rancheria of Pomo Indians of California may proceed after that date if no additional claimants come forward.

The Department of Anthropology Museum at the University of California, Davis is responsible for notifying the Big Valley Rancheria, California; Cahto Indian Tribe of the Laytonville Rancheria, California; Cloverdale Rancheria of Pomo Indians of California; Coyote Valley Band of Pomo Indians of California; Dry Creek Rancheria of Pomo Indians of California; Elem Indian Colony of Pomo Indians of the Sulphur Bank Rancheria, California; Federated Indians of Graton Rancheria, California; Guidiville Rancheria of California; Habematolel Pomo of Upper Lake, California; Hopland Band of Pomo Indians of the Hopland Rancheria, California; Kashia Band of Pomo Indians of the Stewarts Point Rancheria, California; Klamath Tribes, Oregon; Lower Lake Rancheria, California; Lytton Rancheria of California; Manchester Band of Pomo Indians of the Manchester-Point Arena Rancheria, California; Middletown Rancheria of Pomo Indians of California; Pinoleville Pomo Nation, California; Potter Valley Tribe, California; Redding Rancheria, California; Redwood Valley Rancheria of Pomo Indians of California; Robinson Rancheria of Pomo Indians of California; Round Valley Indian Tribes of the Round Valley Reservation, California; Scotts Valley Band of Pomo Indians of California; and Sherwood Valley Rancheria of Pomo Indians of California that this notice has been published.

Dated: July 9, 2009.
Sherry Hutt,
Manager, National NAGPRA Program.

[FR Doc. E9-19973 Filed 8-19-09; 8:45 am]

BILLING CODE 4312-50-S